DEPARTMENT OF THE INTERIOR

Bureau of Land Management

[BLM_CO_FRN_MO4500182533]

Notice of Northwest Resource Advisory Council Schedule of Public Meetings, Colorado

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Northwest Resource Advisory Council (RAC) will hold the following public meetings in 2025.

DATES: The RAC will hold a meeting on February 6, 2025, from 8 a.m. to 4 p.m. mountain time (MT). The RAC will participate in a field tour on May 6, 2025, from 10 a.m. to 3 p.m. MT, and hold a meeting on May 7, 2025, from 8 a.m. to 4 p.m. MT. The RAC will participate in a field tour on August 19, 2025, from 10 a.m. to 3 p.m. MT, and hold a meeting on August 20, 2025, from 8 a.m. to 4 p.m. MT. All meetings and field tours are open to the public and a virtual participation option will be available on the Zoom platform for the business meetings.

ADDRESSES: The February 6, 2025, meeting will be held at the BLM White River Field Office, 220 E. Market St., Meeker, CO 81641.

The May 6, 2025, meeting will consist of a field tour, and the May 7, 2025, meeting will be held at the Grand Junction Field Office, 2815 H Road, Grand Junction, CO 81506.

The August 19, 2025, meeting will consist of a field tour, and the August 20, 2025 meeting will be held at the Little Snake Field Office, 455 Emerson Street, Craig CO 81625.

Virtual registration information, field tour details, and final agendas will be posted online 30 days in advance of the meeting dates at https://www.blm.gov/get-involved/resource-advisory-council/near-you/colorado/northwest-rac.

FOR FURTHER INFORMATION CONTACT: Heather Marsh, 2815 H Road, Grand Junction, CO 81506; telephone: 970-244-3000; email: BLM_CO_NWRAC@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Through the BLM, the 15-member RAC advises the Secretary of the Interior on the planning and management of the public land resources located within the Northwest District, which includes the Kremmling, Little Snake, and White River Field Offices; and the Upper Colorado River District, which includes the Grand Junction and Colorado River Valley Field Offices along with the Dominguez-Escalante and McInnis Canyons National Conservation Areas.

Agenda items for the February 6, 2025, meeting include a discussion of the North Sandhills Recreation Area business plan, carbon sequestration, methane capture, and field manager updates. The RAC will participate in a field tour on May 6, 2025, to sites located within the Grand Junction Field Office. Agenda items for the May 7, 2025, meeting include a discussion of shooting sports, a Solar Programmatic Environmental Impact Statement update, and field manager updates. The RAC will participate in a field tour on August 19, 2025, to the Sand Wash Basin area. Agenda items for the August 20, 2025, meeting include a discussion of fuels projects, Gateway South Reclamation, a TransWest Express Transmission Project update, and field manager updates. A public comment period will be offered at the business meetings. The public may present written comments at least two weeks in advance of the meetings to the contact listed in the FOR FURTHER INFORMATION CONTACT section of this notice. Please include “RAC Comment” in your submission. All comments received will be provided to the RAC.

Before including your address, phone number, email address, or other personal identifying information in your comment, you should be aware that your entire comment, including your personal identifying information, may be made publicly available at any time. While you can ask us in your comment to withhold your personal identifying information from public review, we cannot guarantee that we will be able to do so.

Members of the public are welcome to attend field tours but must provide their own transportation and meals. Individuals who plan to attend must RSVP to at least two weeks in advance of the field tours to the contact listed in the FOR FURTHER INFORMATION CONTACT section of this notice.

Requests for Accommodations: Please make requests in advance for sign language interpreter services, assistive listening devices, language translation services, or other reasonable accommodations. We ask that you contact the person listed in the FOR FURTHER INFORMATION CONTACT section of this notice at least 14 business days prior to the meeting to give the Department of the Interior sufficient time to process your request. All reasonable accommodation requests are managed on a case-by-case basis.

Meeting minutes will be maintained in the Upper Colorado River District Office and will be available for public inspection and reproduction during regular business hours within 90 days following the meeting. Previous minutes and agendas are also available on the RAC's web page.

(Authority: 43 CFR 1784.4-2)

Douglas J. Vilsack,
BLM Colorado State Director.

[FR Doc. 2024-28207 Filed 11-29-24; 8:45 am]

BILLING CODE 4331-16-P